DEPARTMENT OF HOMELAND SECURITY

Federal Emergency Management Agency

44 CFR Part 67

[Docket ID FEMA-2010-0003; Internal Agency Docket No. FEMA-B-1127]

Proposed Flood Elevation Determinations

AGENCY: Federal Emergency Management Agency, DHS.

ACTION: Proposed rule; correction.

SUMMARY: On September 13, 2010, FEMA published in the Federal Register a proposed rule that contained an erroneous table. This notice provides corrections to that table, to be used in lieu of the information published at 75 FR 55515. The table provided here represents the flooding sources, location of referenced elevations, effective and modified elevations, and communities affected for Mercer County, Pennsylvania (All Jurisdictions). Specifically, it addresses the following flooding sources: Baker Run, Little Shenango River, Munnell Run, Neshannock Creek, Otter Creek, Sawmill Run, Shenango River, and Wolf Creek.

DATES: Comments are to be submitted on or before March 11, 2013.

ADDRESSES: You may submit comments, identified by Docket No. FEMA-B-1127, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 55515, in the September 13, 2010, issue of the Federal Register, FEMA published a table under the authority of 44 CFR 67.4. The table, entitled “Mercer County, Pennsylvania (All Jurisdictions)” addressed the following flooding sources: Baker Run, Little Shenango River, Munnell Run, Neshannock Creek, Otter Creek, Sawmill Run, Shenango River, and Wolf Creek. That table contained inaccurate information as to the location of referenced elevation, effective and modified elevation in feet, and/or communities affected for the flooding source, the Shenango River. FEMA is publishing a table containing the accurate information, to address these prior errors. The information provided below should be used in lieu of that previously published.

Flooding source(s) | Location of referenced elevation ** | * Elevation in feet (NGVD) +Elevation in feet (NAVD) # Depth in feet above ground ‸ Elevation in meters (MSL): Effective | * Elevation in feet (NGVD) +Elevation in feet (NAVD) # Depth in feet above ground ‸ Elevation in meters (MSL): Modified | Communities affected
Mercer County, Pennsylvania (All Jurisdictions)
Baker Run | Approximately 55 feet upstream of Highland Road | None | + 1114 | City of Sharon.
| Approximately 30 feet downstream of Richmond Drive | None | + 1117
Little Shenango River | Approximately 0.94 mile downstream of the confluence with Little Shenango River Tributary 1 | None | + 968 | Township of Sugar Grove.
| Approximately 0.9 mile downstream of the confluence with Little Shenango River Tributary 1 | None | + 968
Munnell Run | Approximately 0.31 mile upstream of Home Street | None | + 1125 | Township of Findley.
| Approximately 0.21 mile downstream of Franklin Street | None | + 1131
Neshannock Creek | Approximately 425 feet downstream of the intersection of Plantation Drive and Cypress Lane | None | + 1093 | Township of Findley.
| Approximately 0.3 mile upstream of the intersection of Schaffer Road and Grove City Road | None | + 1095
Otter Creek | Approximately 0.28 mile upstream of the confluence with Munnell Run | None | + 1099 | Township of Findley.
| Approximately 0.3 mile upstream of the confluence with Munnell Run | None | + 1099
Sawmill Run | Approximately 0.35 mile upstream of the confluence with Sawmill Run Tributary 1 | None | + 1164 | Township of Sandy Lake.
| Approximately 0.46 mile upstream of the confluence with Sawmill Run Tributary 1 | None | + 1165
Sawmill Run | Approximately 0.23 mile downstream of Franklin Street (just below Maple Street) | None | + 1167 | Borough of Stoneboro.
| Approximately 305 feet upstream of Franklin Street | None | + 1167
Shenango River | Approximately 690 feet upstream of the confluence with Big Run No. 1 | None | + 930 | Borough of Greenville, Township of West Salem.
| Approximately 295 feet upstream of the intersection of Clinton Street and Canal Street | None | + 943
Shenango River | Approximately 275 feet upstream of the confluence with Shenango River Tributary 3 | None | + 835 | Municipality of Hermitage.
| Approximately 490 feet downstream of the confluence with Little Yankee Run | None | + 845
| Just downstream of Clark Street | None | + 856
| Approximately 820 feet upstream of the confluence with Big Run No. 2 | None | + 859
Shenango River | Approximately 2,400 feet upstream of I-80 | + 832 | + 833 | Township of Shenango.
| Approximately 1.1 miles upstream of I-80 | + 832 | + 833
Shenango River | Approximately 645 feet downstream of Sieg Hill Road | None | + 833 | Township of Wheatland.
| Approximately 1,000 upstream of Sieg Hill Road | None | + 834
Shenango River | Approximately 0.34 mile upstream of the confluence with the Little Shenango River | None | + 949 | Township of West Salem.
| Approximately 200 feet downstream of Porter Road | None | + 951
Wolf Creek | Approximately 0.21 mile upstream of the confluence with Barmore Run | None | + 1220 | Township of Pine.
| Approximately 0.34 mile downstream of the intersection of Craig Street and Garden Avenue | None | + 1226
| Approximately 0.2 mile downstream of the intersection of Craig Street and Garden Avenue | None | + 1226
| Approximately 0.38 mile downstream of State Route 58 (Main Street) | None | + 1226
| Approximately 0.22 mile downstream of the confluence with Black Run | None | + 1245
| Approximately 0.21 mile downstream of the confluence with Black Run | None | + 1245
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Greenville
Maps are available for inspection at 125 Main Street, Greenville, PA 16125.
Borough of Stoneboro
Maps are available for inspection at 59 Lake Street, Stoneboro, PA 16153.
City of Sharon
Maps are available for inspection at the Municipal Building, 155 West Connelly Boulevard, Sharon, PA 16146.
Municipality of Hermitage
Maps are available for inspection at City Hall, 800 North Hermitage Road, Hermitage, PA 16148.
Township of Findley
Maps are available for inspection at the Findley Township Building, 369 McClelland Road, Mercer, PA 16137.
Township of Pine
Maps are available for inspection at the Pine Township Building, 545 Barkeyville Road, Grove City, PA 16127.
Township of Sandy Lake
Maps are available for inspection at the Township Building, 3271 South Main Street, Sandy Lake, PA 16145.
Township of Shenango
Maps are available for inspection at the Shenango Township Building, 3439 Hubbard-West Middlesex Road, West Middlesex, PA 16159.
Township of Sugar Grove
Maps are available for inspection at 359 Groover Road, Greenville, PA 16125.
Township of West Salem
Maps are available for inspection at the West Salem Township Building, 610 Vernan Road, Greenville, PA 16125.
Township of Wheatland
Maps are available for inspection at the Wheatland Township Building, 739 Kilgore Road, Jackson Center, PA 16133.

(Catalog of Federal Domestic Assistance No. 97.022, “Flood Insurance.”)

Dated: November 8, 2012.
James A. Walke,
Acting Deputy Associate Administrator for Mitigation, Department of Homeland Security, Federal Emergency Management Agency.

[FR Doc. 2012-29682 Filed 12-7-12; 8:45 am]

BILLING CODE 9110-12-P